NUCLEAR REGULATORY COMMISSION

[NRC-2011-0011]

Design and Inspection Criteria for Water-Control Structures Associated With Nuclear Power Plants

AGENCY: Nuclear Regulatory Commission.

ACTION: Draft Regulatory Guide, request for comment.

SUMMARY: The U.S. Nuclear Regulatory Commission (NRC) is re-issuing for a second round of public comment, draft regulatory guide (DG)-1245, “Design and Inspection Criteria for Water-Control Structures Associated With Nuclear Power Plants.” This DG is proposed revision 2 of regulatory guide (RG) 1.127, “Inspection of Water-Control Structures Associated With Nuclear Power Plants” dated March 1978. This DG describes methods the NRC staff considers acceptable for designing and developing appropriate inservice inspection and surveillance programs for dams, slopes, canals, and other water-control structures associated with nuclear power plants.

DATES: Submit comments by March 24, 2015. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods (unless this document describes a different method for submitting comments on a specified subject):

• Federal Rulemaking Web site: Go to http://www.regulations.gov and search for Docket ID NRC-2011-0011. Address questions about NRC dockets to Carol Gallagher; telephone: 301-287-3422; email: Carol.Gallagher@nrc.gov. For technical questions, contact the individual(s) listed in the FOR FURTHER INFORMATION CONTACT section of this document.

• Mail comments to: Cindy Bladey, Office of Administration, Mail Stop: 3WFN 06A-A44M, U.S. Nuclear Regulatory Commission, Washington, DC 20555-0001.

For additional direction on accessing information and submitting comments, see “Obtaining Information and Submitting Comments” in the SUPPLEMENTARY INFORMATION section of this document.

FOR FURTHER INFORMATION CONTACT: Robert Pettis, Office of Nuclear Reactor Regulation, telephone: 301-415-3214, email: Robert.Pettis@nrc.gov or Mark Orr, Office of Nuclear Regulatory Research, telephone: 301-251-7495, email: Mark.Orr@nrc.gov. Both are staff of the U.S. Nuclear Regulatory Commission, Washington, DC 20555-0001.

SUPPLEMENTARY INFORMATION:

I. Obtaining Information and Submitting Comments

A. Obtaining Information

Please refer to Docket ID NRC-2011-0011 when contacting the NRC about the availability of information regarding this document. You may obtain publically-available information related to this document, by any of the following methods:

• Federal Rulemaking Web site: Go to http://www.regulations.gov and search for Docket ID NRC-2011-0011. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if available in ADAMS) is provided the first time that a document is referenced. The DG is electronically available in ADAMS under Accession No. ML13255A435.

• NRC's PDR: You may examine and purchase copies of public documents at the NRC's PDR, Room O1-F21, One White Flint North, 11555 Rockville Pike, Rockville, Maryland 20852.

B. Submitting Comments

Please include Docket ID NRC-2011-0011 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Additional Information

The NRC is issuing for public comment a DG in the NRC's “Regulatory Guide” series. This series was developed to describe and make available to the public information such as methods that are acceptable to the NRC staff for implementing specific parts of the NRC's regulations, techniques that the staff uses in evaluating specific problems or postulated accidents, and data that the staff needs in its review of applications for permits and licenses.

The DG, entitled, “Design and Inspection Criteria for Water Control Structures Associated With Nuclear Power Plants” is temporarily identified by its task number, DG-1245. This DG-1245 is proposed revision 2 of RG 1.127, dated March 1978. This guide is a re-issue of DG-1245, “Inspection of Water Control Structures Associated With Nuclear Power Plants” which was originally issued for public comment in January 2011. The NRC staff has re-written DG-1245 to more clearly identify the dams and other water control structures subject to this guidance document and is issuing it for a second round of public review and comment.

Since the release of Revision 1 of RG 1.127 in March 1978, the Federal guidelines for safety and inspection of dams and other water control structures have undergone significant revision. This DG is being updated to provide licensees and applicants with the most current guidance and to help ensure that applicants and licensees are able to demonstrate compliance with the applicable regulations.

This DG describes a method the staff of the NRC considers acceptable for designing and developing appropriate inservice inspection (ISI) and surveillance programs for dams, slopes, canals, and other water-control structures associated with emergency cooling water systems or flood protection of nuclear power plants.

This DG applies only to water control structures (e.g., dams, slopes, canals, reservoirs, and associated conveyance facilities) which are part of the nuclear power plant and whose failure could either cause site flooding, the failure of the plant's emergency cooling systems, or otherwise endanger the plant.

III. Backfitting and Issue Finality

This DG, if finalized, does not constitute backfitting as defined in § 50.109 of Title 10 of the Code of Federal Regulations (10 CFR) (the Backfit Rule), and is not otherwise inconsistent with the issue finality provisions in 10 CFR part 52, “Licenses, Certifications and Approvals for Nuclear Power Plants.” This DG provides guidance on one possible means for meeting NRC's regulatory requirements for developing appropriate ISI and surveillance programs for dams, slopes, canals, and other water-control structures associated with emergency cooling and flood protection water systems as required by General Design Criterion (GDC) 45, “Inspection of Cooling Water System,” of Appendix A, “General Design Criteria for Nuclear Power Plants,” to 10 CFR part 50, “Domestic Licensing of Production and Utilization Facilities” (10 CFR part 50).

Existing licensees and applicants of final design certification rules will not be required to comply with the new positions set forth in this DG, unless the licensee or design certification rule applicant seeks a voluntary change to its licensing basis with respect to ISI or surveillance programs for water control structures, and where the NRC determines that the safety review must include consideration of the ISI or surveillance program. Further information on the staff's use of the DG, if finalized, is contained in the DG under Section D. Implementation.

Dated at Rockville, Maryland, this 16th day of January, 2015.
For the Nuclear Regulatory Commission.
Harriet Karagiannis,
Acting Branch Chief, Regulatory Guidance and Generic Issues Branch, Division of Engineering, Office of Nuclear Regulatory Research.

[FR Doc. 2015-01155 Filed 1-22-15; 8:45 am]

BILLING CODE 7590-01-P